DEPARTMENT OF HEALTH AND HUMAN SERVICES

National Institutes of Health

National Cancer Institute; Amended Notice of Meeting

Notice is hereby given of a change in the meeting of the National Cancer Institute Council of Research Advocates, September 29, 2021, 12:00 p.m. to September 29, 2021, 4:00 p.m., National Cancer Institute Shady Grove, 9609 Medical Center Drive, Rockville, MD 20850 which was published in the Federal Register on September 17, 2021, FR Doc 2021-20075, 86 FR 51903.

This notice is being amended to change the meeting end time. The meeting will now be held from 12:00 p.m. to 3:15 p.m. The meeting is open to the public.

Dated: September 22, 2021.
Melanie J. Pantoja,
Program Analyst, Office of Federal Advisory Committee Policy.

[FR Doc. 2021-20983 Filed 9-27-21; 8:45 am]

BILLING CODE 4140-01-P